DEPARTMENT OF STATE

[Public Notice 6408]

U.S. National Commission for UNESCO Notice of Teleconference Meeting

The U.S. National Commission for UNESCO will hold a meeting by conference call on Monday, December 22, 2008 beginning at 11 a.m. Eastern Time. The open portion of the meeting should last approximately twenty minutes and will address a variety of issues and projects related to UNESCO. Additional topic areas that relate to UNESCO may be discussed as needed.

The Commission will accept brief oral comments from members of the public during the open portion of this teleconference meeting. The public comment period will be limited to approximately ten minutes in total with about three minutes allowed per speaker. Members of the public who wish to present oral comments or listen to the conference call must make arrangements with the Executive Secretariat of the National Commission by December 18, 2008. The second portion of the teleconference meeting will be closed to the public to allow the Commission to discuss applications for the UNESCO Young Professionals Program. This portion of the call will be closed to the public pursuant to Section 10(d) of the Federal Advisory Committee Act and 5 U.S.C. 552b(c)(6) because it is likely to involve discussion of information of a personal nature regarding the relative merits of individual applicants where disclosure would constitute a clearly unwarranted invasion of personal privacy. For more information or to arrange to participate in the open portion of the teleconference meeting, contact Andrew Doran, Deputy Executive Director of the U.S. National Commission for UNESCO, Washington, DC 20037. Telephone: (202) 663-0028; Fax: (202) 663-0035; E-mail: DCUNESCO@state.gov.

Dated: November 24, 2008.
Alex Zemek,
Executive Director, U.S. National Commission for UNESCO, Department of State.

[FR Doc. E8-29341 Filed 12-10-08; 8:45 am]

BILLING CODE 4710-19-P